DEPARTMENT OF VETERANS AFFAIRS

[OMB Control No. 2900-New (10-21089)]

Agency Information Collection Activities (Survey of Post-Deployment Adjustment Among OEF and OIF Veterans) Under OMB Review

AGENCY: Veterans Health Administration, Department of Veterans Affairs.

ACTION: Notice.

SUMMARY: In compliance with the Paperwork Reduction Act (PRA) of 1995 (44 U.S.C. 3501-3521), this notice announces that the Veterans Health Administration (VHA), Department of Veterans Affairs, has submitted the collection of information abstracted below to the Office of Management and Budget (OMB) for review and comment. The PRA submission describes the nature of the information collection and its expected cost and burden and includes the actual data collection instrument.

DATES: Comments must be submitted on or before December 19, 2008.

ADDRESSES: Submit written comments on the collection of information through www.Regulations.gov; or to VA's OMB Desk Officer, OMB Human Resources and Housing Branch, New Executive Office Building, Room 10235, Washington, DC 20503, (202) 395-7316. Please refer to “OMB Control No. 2900-New (10-21089)” in any correspondence.

FOR FURTHER INFORMATION CONTACT: Denise McLamb, Records Management Service (005R1B), Department of Veterans Affairs, 810 Vermont Avenue, NW., Washington, DC 20420, (202) 461-7485, fax (202) 273-0443 or e-mail denise.mclamb@mail.va.gov. Please refer to “OMB Control No. 2900-New (10-21089).”

SUPPLEMENTARY INFORMATION: Title: Survey of Post-Deployment Adjustment Among OEF and OIF Veterans, VA Form 10-21089.

OMB Control Number: 2900-New (10-21089).

Type of Review: New collection.

Abstract: The data collected on VA Form 10-21089 will be used to access health conditions, occupational, family and social adjustment and functioning of veterans who were deployed to Afghanistan and/or Iraq. The goal is to identify the gender-specific treatment needs of OEF and OIF veterans with an emphasis on the needs of female veterans who experienced war zone stressor beyond traditional combat and sexual trauma during deployment. VA will use the data to identify how homecoming experiences (healthcare, relationship and parenting readjustment) differently affect male and female veterans.

An agency may not conduct or sponsor, and a person is not required to respond to a collection of information unless it displays a currently valid OMB control number. The Federal Register Notice with a 60-day comment period soliciting comments on this collection of information was published on September 11, 2008 at pages 52900-52901.

Affected Public: Individuals or households.

Estimated Annual Burden: 1,333 hours.

Estimated Average Burden per Respondent: 20 minutes.

Frequency of Response: On occasion.

Estimated Number of Respondents: 4,000.

By direction of the Secretary.
Denise McLamb,
Program Analyst, Records Management Service.

[FR Doc. E8-27504 Filed 11-18-08; 8:45 am]

BILLING CODE 8320-01-P